DEPARTMENT OF TRANSPORTATION

Federal Railroad Administration

49 CFR Part 222

[Docket No. FRA-2025-0128]

RIN 2130-AD18

Enhancing Railroad Discretion in Sounding Locomotive Horns at Passenger Stations

AGENCY: Federal Railroad Administration (FRA), Department of Transportation (DOT).

ACTION: Notice of proposed rulemaking (NPRM).

SUMMARY: FRA proposes to amend its safety standards related to the use of the locomotive horn to clarify that no Federal regulation requires a railroad to sound a locomotive horn because of the presence of a passenger station. The proposed rule would clarify that a railroad has discretion to determine policies for sounding a locomotive horn at a passenger station through railroad operating rules. The proposed rule would also provide that if a railroad decides to sound a locomotive horn at a passenger station, the minimum sound level requirements in FRA's Railroad Locomotive Safety Standards would not apply to the sound produced by the horn.

DATES: Comments on the proposed rule must be received by September 2, 2025. FRA may consider comments received after that date, but only to the extent practicable.

ADDRESSES:

Comments: Comments related to Docket No. FRA-2025-0128 may be submitted by going to https://www.regulations.gov and following the online instructions for submitting comments.

Instructions: All submissions must include the agency name, docket number (FRA-2025-0128), and Regulatory Identification Number (RIN) for this rulemaking (2130-AD18). All comments received would be posted without change to https://www.regulations.gov; this includes any personal information. Please see the Privacy Act heading in the SUPPLEMENTARY INFORMATION section of this document for Privacy Act information related to any submitted comments or materials.

Docket: For access to the docket to read background documents or comments received, go to https://www.regulations.gov and follow the online instructions for accessing the docket.

FOR FURTHER INFORMATION CONTACT: James Payne, Staff Director, Grade Crossing and Trespasser Outreach, FRA, telephone: (202) 441-2787, email: James.Payne@dot.gov; or Kathryn Gresham, Attorney Adviser, FRA, telephone: (202) 577- 7142, email: Kathryn.Gresham@dot.gov.

SUPPLEMENTARY INFORMATION:

I. Background

Consistent with the deregulatory agenda of President Donald J. Trump and Secretary of Transportation Sean P. Duffy, which seeks to unleash America's economic prosperity without compromising transportation safety, FRA is reviewing its regulatory requirements in parts 200 through 299 of title 49, Code of Federal Regulations (CFR). The requirements related to the use of locomotive horns by FRA-regulated entities are established in 49 CFR part 222, “Use of Locomotive Horns at Public Highway-Rail Grade Crossings.” Although part 222 focuses on the use of locomotive horns at public highway-rail grade crossings, it also provides clarification regarding the use of locomotive horns in emergencies and other situations. Some of the requirements contained in part 222 could be updated to reduce burdens, make technical or conforming changes, or otherwise adjust to advancing technology without any adverse effect on railroad safety. The amendment to part 222 proposed in this NPRM aims to address public concerns about excessive horn sounding, to provide greater flexibility to railroads regarding Federal requirements, and to eliminate any confusion by clarifying that no Federal regulation requires the sounding of a locomotive horn at a passenger station. Please review the Section-by-Section Analysis below for the relevant information related to each proposed change.

II. Section-by-Section Analysis

Section 222.9 Definitions

FRA proposes to add a definition of “passenger station” to mean a location designated in a railroad's timetable where passengers are regularly scheduled to get on or off any train, adopting the same definition of “passenger station” in § 238.5 of FRA's Passenger Equipment Safety Standards. FRA proposes to add this definition to clarify specific locations that are not subject to a Federal requirement for sounding of the locomotive horn.

Section 222.23 How does this regulation affect sounding of a horn during an emergency or other situations?

This proposed rule would revise the language of 49 CFR 222.23 to clarify that no Federal regulation requires a railroad to sound a locomotive horn because of the presence of a passenger station. Unless other conditions or circumstances trigger Federal regulations requiring the use of a locomotive horn, such as providing audible warning from trains or locomotives that approach roadway workers and roadway maintenance machines as required under 49 CFR 214.339, a railroad has discretion over the decision to sound a locomotive horn at a passenger station and the relevant railroad operating rules it adopts to address such a situation. If a railroad decides to sound a locomotive horn at a passenger station at its own discretion, under this proposed rule, the minimum sound level requirements in 49 CFR 229.129(a) would not apply to the sound produced by the horn.

Historically, railroads have sounded the locomotive horn at passenger stations as one method of warning passengers of approaching trains and safeguarding passenger movements at passenger stations. The railroad industry has developed additional methods for providing such warning to passengers and safeguarding their movements at passenger stations, including advancements in station design, providing physical separation of passengers from train movements, and providing other forms of warnings and measures for increasing situational awareness, including both audible and visual station announcements. In the context of this more robust array of methods to warn passengers of approaching trains and to safeguard passenger movements at passenger stations, and in consideration that different methods may be employed depending on whether trains are stopping at a station, moving through a station without stopping, or moving over tracks adjacent to a station, the proposed rule would enhance a railroad's discretion in using the locomotive horn at passenger stations. FRA invites comment on the effectiveness of current railroad operating rules and procedures that address locomotive horn sounding at passenger stations and other methods for ensuring safety at passenger stations.

III. Regulatory Impact and Notices

A. Executive Orders (E.O.) 12866 (Regulatory Planning and Review) and DOT Regulatory Policies and Procedures

FRA has considered the impact of this NPRM under E.O. 12866 (58 FR 51735, Oct. 4, 1993), Regulatory Planning and Review, and DOT Regulatory Policies and Procedures. The Office of Information and Regulatory Affairs within the Office of Management and Budget (OMB) determined that this NPRM is not a significant regulatory action under section 3(f) of E.O. 12866.

FRA analyzed the potential costs and benefits of this proposed rule. This proposed rule would provide transparency regarding Federal locomotive horn sounding requirements and eliminate any confusion to the public, rail labor organizations, and the rail industry by clarifying that no Federal regulation requires the sounding of a locomotive horn because of the presence of a passenger station. Additionally, this proposed rule would allow railroads the discretion to sound a locomotive horn without being subject to the minimum sound level requirements for locomotive horns in 49 CFR part 229. This rule would provide railroads greater flexibility to operate their businesses without adversely impacting railroad safety.

B. E.O. 14192 (Unleashing Prosperity Through Deregulation)

E.O. 14192 (90 FR 9065, Jan. 31, 2025), Unleashing Prosperity Through Deregulation, requires that for “each new [E.O. 14192 regulatory action] issued, at least ten prior regulations be identified for elimination.” ¹ Implementation guidance for E.O. 14192 issued by OMB (Memorandum M-25-20, Mar. 26, 2025) defines two different types of E.O. 14192 actions: an E.O. 14192 deregulatory action, and an E.O. 14192 regulatory action.²

¹ Executive Office of the President. Executive Order 14192 of January 31, 2025. Unleashing Prosperity Through Deregulation. 90 FR 9065-9067. Feb. 6, 2025.

² Executive Office of the President. Office of Management and Budget. Guidance Implementing Section 3 of Executive Order 14192, Titled “Unleashing Prosperity Through Deregulation.” Memorandum M-25-20. Mar. 26, 2025.

An E.O. 14192 deregulatory action is defined as “an action that has been finalized and has total costs less than zero.” This proposed rulemaking is expected to have total costs less than zero, and therefore it would be considered an E.O. 14192 deregulatory action upon issuance of a final rule. While FRA is confident that each change proposed in this NPRM has a cost that is negligible or “less than zero” consistent with E.O. 14192, FRA requests comment on the extent of the cost savings for the changes proposed in this NPRM.

C. Regulatory Flexibility Act and E.O. 13272

The Regulatory Flexibility Act (5 U.S.C. 601 et seq.), as amended by the Small Business Regulatory Enforcement Fairness Act of 1996,³ requires Federal agencies to consider the effects of the regulatory action on small business and other small entities and to minimize any significant economic impact. Accordingly, DOT policy requires an analysis of the impact of all regulations on small entities, and mandates that agencies strive to lessen any adverse effects on these businesses. The term small entities comprises small businesses and not-for-profit organizations that are independently owned and operated and are not dominant in their fields, and governmental jurisdictions with populations of less than 50,000 (5 U.S.C. 601(6)).

³ Public Law 104-121, 110 Stat. 857 (Mar. 29, 1996).

No regulatory flexibility analysis is required, however, if the head of an Agency or an appropriate designee certifies that the rule would not have a significant economic impact on a substantial number of small entities. This proposed rule would not preclude small entities from continuing existing practices that comply with part 222 or another Federal regulation; it merely offers flexibilities that could result in cost savings, if a small entity or other regulated entity chooses to utilize those flexibilities. By extending this regulatory relief, many regulated entities, including small entities, would experience a cost savings. Consequently, FRA certifies that the proposed action would not have a significant economic impact on a substantial number of small entities.

In accordance with section 213(a) of the Small Business Regulatory Enforcement Fairness Act of 1996 (Pub. L. 104-121, 110 Stat. 857), FRA wants to assist small entities in understanding this proposed rule so they can better evaluate its effects on themselves and participate in the rulemaking initiative. If the proposed rule would affect your small business, organization, or governmental jurisdiction and you have questions concerning its provisions or options for compliance, please consult the person listed under FOR FURTHER INFORMATION CONTACT.

D. Paperwork Reduction Act

This proposed rule offers regulatory flexibilities, and it contains no new information collection requirements under the Paperwork Reduction Act of 1995, 44 U.S.C. 3501 et seq., therefore, an information collection submission to OMB is not required. The recordkeeping and reporting requirements already contained in part 222 became effective when it was approved by OMB on November 09, 2022. The OMB control number is 2130-0560, and OMB approval expires on November 30, 2025.

E. Environmental Assessment

FRA has analyzed this rule for the purposes of the National Environmental Policy Act of 1969 (NEPA). In accordance with 42 U.S.C. 4336 and DOT NEPA Order 5610.1C, FRA has determined that this rule is categorically excluded pursuant to 23 CFR 771.118(c)(4), “[p]lanning and administrative activities that do not involve or lead directly to construction, such as: [p]romulgation of rules, regulations, and directives.” This rulemaking is not anticipated to result in any environmental impacts, and there are no unusual or extraordinary circumstances present in connection with this rulemaking.

Pursuant to Section 106 of the National Historic Preservation Act and its implementing regulations, FRA has determined this undertaking has no potential to affect historic properties. FRA has also determined that this rulemaking does not approve a project resulting in a use of a resource protected by Section 4(f).

F. Federalism Implications

This proposed rule would not have a substantial effect on the States, on the relationship between the national government and the States, or on the distribution of power and responsibilities among the various levels of government. Thus, in accordance with E.O. 13132, “Federalism” (64 FR 43255, Aug. 10, 1999), preparation of a Federalism Assessment is not warranted.

G. Unfunded Mandates Reform Act of 1995

This proposed rule would not result in the expenditure, in the aggregate, of $100,000,000 or more, adjusted for inflation, in any one year by State, local, or Indian Tribal governments, or the private sector. Thus, consistent with section 202 of the Unfunded Mandates Reform Act of 1995 (Pub. L. 104-4, 2 U.S.C. 1532), FRA is not required to prepare a written statement detailing the effect of such an expenditure.

H. Energy Impact

E.O. 13211 requires Federal agencies to prepare a Statement of Energy Effects for any “significant energy action.” ⁴ FRA has evaluated this proposed rule in accordance with E.O. 13211 and determined that this proposed rule is not a “significant energy action” within the meaning of E.O. 13211.

⁴ 66 FR 28355 (May 22, 2001).

I. E.O. 13175 (Tribal Consultation)

FRA has evaluated this proposed rule in accordance with the principles and criteria contained in E.O. 13175, Consultation and Coordination with Indian Tribal Governments, dated November 6, 2000. The proposed rule would not have a substantial direct effect on one or more Indian tribes, would not impose substantial direct compliance costs on Indian tribal governments, and would not preempt tribal laws. Therefore, the funding and consultation requirements of E.O. 13175 do not apply, and a tribal summary impact statement is not required.

J. International Trade Impact Assessment

The Trade Agreement Act of 1979 ⁵ prohibits Federal agencies from engaging in any standards or related activities that create unnecessary obstacles to the foreign commerce of the United States. Legitimate domestic objectives, such as safety, are not considered unnecessary obstacles. The statute also requires consideration of international standards, and where appropriate, that they be the basis for U.S. standards. This rulemaking is purely domestic in nature and is not expected to affect trade opportunities for U.S. firms doing business overseas or for foreign firms doing business in the United States.

⁵ 19 U.S.C. ch. 13.

K. Privacy Act Statement

In accordance with 5 U.S.C. 553(c), DOT solicits comments from the public to better inform its rulemaking process. DOT posts these comments, without edit, to http://www.regulations.gov, as described in the system of records notice, DOT/ALL-14 FDMS, accessible through www.transportation.gov/privacy. To facilitate comment tracking and response, we encourage commenters to provide their name, or the name of their organization; however, submission of names is completely optional. Whether or not commenters identify themselves, all timely comments would be fully considered. If you wish to provide comments containing proprietary or confidential information, please contact the agency for alternate submission instructions.

L. Rulemaking Summary

As required by 5 U.S.C. 553(b)(4), a summary of this rule can be found at regulations.gov, Docket No. FRA-2025-0128, in the SUMMARY section of this proposed rule.

List of Subjects in 49 CFR Part 222

Administrative practice and procedure, Locomotives, Railroad safety, Train horn.

The Proposed Rule

For the reasons discussed in the preamble, FRA proposes to amend part 222 of chapter II, subtitle B of title 49, Code of Federal Regulations as follows:

1. The authority citation for part 222 continues to read as follows:

Authority: 49 U.S.C. 20103, 20107, 20153, 21301, 21304; 28 U.S.C. 2461 note; and 49 CFR 1.89.

2. Amend § 222.9 by adding the definition of “passenger station” in alphabetical order to read as follows:

§ 222.9 Definitions

* * * * *

Passenger station means a location designated in a railroad's timetable where passengers are regularly scheduled to get on or off any train.

* * * * *

3. Amend § 222.23 by adding paragraph (d) to read as follows:

§ 222.23 How does this regulation affect sounding of a horn during an emergency or other situations?

* * * * *

(d) Nothing in this part requires the use of the locomotive horn at a passenger station or for purposes other than highway-rail crossing safety. Unless a Federal regulation requires the use of a locomotive horn because of conditions present at a specific passenger station, the decision to sound a locomotive horn is subject to railroad discretion and railroad operating rules adopted under part 217 of this chapter. A locomotive horn used pursuant to this discretion is not subject to the minimum sound level requirement specified in 49 CFR 229.129(a).

Issued in Washington, DC.
Kyle D. Fields,
Chief Counsel.

[FR Doc. 2025-12157 Filed 6-27-25; 4:15 pm]

BILLING CODE 4910-06-P